DEPARTMENT OF COMMERCE

International Trade Administration

[C-533-896]

Common Alloy Aluminum Sheet From India: Preliminary Results of Countervailing Duty Administrative Review and Partial Rescission; 2020-2021

AGENCY: Enforcement and Compliance, International Trade Administration, Department of Commerce.

SUMMARY: The U.S. Department of Commerce (Commerce) preliminarily determines that producers/exporters of common alloy aluminum sheet (aluminum sheet) from India received countervailable subsidies during the period of review (POR) August 14, 2020, through December 31, 2021. Interested parties are invited to comment on these preliminary results.

DATES: Applicable May 4, 2023.

FOR FURTHER INFORMATION CONTACT: Benito Ballesteros, AD/CVD Operations, Office IX, Enforcement and Compliance, International Trade Administration, U.S. Department of Commerce, 1401 Constitution Avenue NW, Washington, DC 20230; telephone: (202) 482-4725.

SUPPLEMENTARY INFORMATION:

Background

On April 27, 2021, Commerce published the countervailing duty order on aluminum sheet from India.¹ On June 9, 2022, Commerce published in the Federal Register a notice of initiation of an administrative review of the Order.² On December 5, 2022, Commerce extended the deadline for the preliminary results of this administrative review until April 28, 2023.³

¹ See Common Alloy Aluminum Sheet from Bahrain, India, and the Republic of Turkey: Countervailing Duty Orders, 86 FR 22144 (April 27, 2021) (Order).

² See Initiation of Antidumping and Countervailing Duty Administrative Reviews, 87 FR 35165 (June 9, 2022).

³ See Memorandum, “Extension of Deadline for Preliminary Results of Countervailing Duty Administrative Review; 2020-2021,” dated December 5, 2022.

For a complete description of the events that followed the initiation of this review, see the Preliminary Decision Memorandum.⁴ A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Decision Memorandum for the Preliminary Results of the Countervailing Duty Administrative Review of Common Alloy Aluminum Sheet from India; 2020-2021,” dated concurrently with, and hereby adopted by, this notice (Preliminary Decision Memorandum).

Rescission of Administrative Review, In Part

Pursuant to 19 CFR 351.213(d)(3), Commerce's practice is to rescind an administrative review of a countervailing duty order when there are no reviewable entries of subject merchandise during the POR for which liquidation is suspended.⁵ Normally, upon completion of an administrative review, the suspended entries are liquidated at the countervailing duty assessment rate calculated for the review period.⁶ Therefore, for an administrative review of a company to be conducted, there must be a reviewable, suspended entry that Commerce can instruct U.S. Customs and Border Protection (CBP) to liquidate at the calculated countervailing duty assessment rate calculated for the review period.⁷

⁵ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

⁶ See 19 CFR 351.212(b)(2).

⁷ See 19 CFR 351.213(d)(3).

According to the CBP import data, one company, Virgo Aluminum Limited (Virgo), did not have a reviewable entry of subject merchandise during the POR for which liquidation is suspended.⁸ Therefore, we notified interested parties that we intended to rescind this administrative review with respect to Virgo and provided parties an opportunity to submit comments, including factual information to demonstrate whether there were reviewable entries during the POR for Virgo.⁹ We received comments from Virgo on our intent to rescind this review.¹⁰ However, in response to Commerce's supplemental questionnaire, Virgo was unable to provide evidence of an entry of subject merchandise during the POR.¹¹ Therefore, in the absence of reviewable, suspended entries of subject merchandise during the POR, in accordance with 19 CFR 351.213(d)(3), we are rescinding this administrative review with respect to Virgo. For further discussion, see the Preliminary Decision Memorandum.

⁸ See Memorandum, “Release of Customs and Border Protection Data Query,” dated June 9, 2022.

⁹ See Memorandum, “Notice of Intent to Rescind Review, In Part,” dated July 6, 2022.

¹⁰ See Virgo's Letter, “Virgo' Comments Commerce's Intent to Rescind the Administrative Review,” dated July 25, 2022.

¹¹ See Virgo's Letter, “Supplemental Response,” dated September 26, 2022, at 1.

Scope of the Order

The merchandise covered by this Order is aluminum sheet from India. For a complete description of the scope of the Order, see the Preliminary Decision Memorandum.

Methodology

Commerce is conducting this review in accordance with section 751(a)(l)(A) of the Tariff Act of 1930, as amended (the Act). For each of the subsidy programs found to be countervailable, Commerce preliminarily determines that there is a subsidy, i.e., a financial contribution by an “authority” that gives rise to a benefit to the recipient, and that the subsidy is specific.¹² For a full description of the methodology underlying our conclusions, see the Preliminary Decision Memorandum.

¹² See sections 771(5)(B) and (D) of the Act regarding financial contribution; section 771(5)(E) of the Act regarding benefit; and section 771(5A) of the Act regarding specificity.

Preliminary Results of Review

As a result of this review, we preliminarily determine that, for 2020 and 2021, the following estimated countervailable subsidy rates exist:

Company | Subsidy rate 2020 (percent ad valorem) | Subsidy rate 2021 (percent ad valorem)
Hindalco Industries Limited ¹³ | 37.90 | 32.43

Assessment Rates

¹³ As discussed in the Preliminary Decision Memorandum, Commerce has found the following company to be cross-owned with Hindalco Industries Limited (Hindalco): Utkal Alumina International Limited.

Consistent with section 751(a)(2)(C) of the Act and 19 CFR 351.212(b)(2), upon issuance of the final results, Commerce shall determine, and CBP shall assess, countervailing duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For Virgo, the company for which we are rescinding this administrative review, Commerce will instruct CBP to assess countervailing duties on all appropriate entries at a rate equal to the cash deposit of estimated countervailing duties required at the time of entry, or withdrawal from warehouse, for consumption, during the period August 14, 2020, through December 31, 2021, in accordance with 19 CFR 351.212(c)(l)(i). Commerce intends to issue appropriate assessment instructions directly to CBP no earlier than 35 days after the date of publication of this notice in the Federal Register.

Cash Deposit Requirements

Pursuant to section 751(a)(1) of the Act, Commerce also intends to instruct CBP to collect cash deposits of estimated countervailing duties in the amounts calculated for the year 2021 for Hindalco with regard to shipments of subject merchandise entered, or withdrawn from warehouse, for consumption on or after the date of publication of the final results of this review. For all non-reviewed firms, CBP will continue to collect cash deposits of estimated countervailing duties at the all-others rate or the most recent company-specific rate applicable to the company, as appropriate. These cash deposit requirements, when imposed, shall remain in effect until further notice.

Disclosure

Commerce intends to disclose to parties to this proceeding the calculations performed in reaching the preliminary results within five days of the date of publication of these preliminary results, in accordance with 19 CFR 351.224(b).

Public Comment

Case briefs or other written comments may be submitted to the Assistant Secretary for Enforcement and Compliance no later than 30 days after the date of publication of the preliminary results. Rebuttal briefs, limited to issues raised in case briefs, may be submitted no later than seven days after the deadline date for case briefs after the deadline date for case briefs.¹⁴ Pursuant to 19 CFR 351.309(c)(2) and (d)(2), parties who submit case or rebuttal briefs in this review are encouraged to submit with each argument: (1) a statement of the issue; (2) a brief summary of the argument; and (3) a table of authorities. All briefs must be filed electronically using ACCESS. An electronically filed document must be received successfully in its entirety using ACCESS by 5:00 p.m. Eastern Time on the established deadline. Note that Commerce has temporarily modified certain of its requirements for service documents containing business proprietary information, until further notice.¹⁵

¹⁴ See 19 CFR 351.309; see also 19 CFR 351.303 (for general filing requirements).

¹⁵ See Temporary Rule Modifying AD/CVD Service Requirements Due to COVID-19; Extension of Effective Period, 85 FR 41363 (July 10, 2020).

Pursuant to 19 CFR 351.310(c), interested parties who wish to request a hearing, limited to issues raised in the case and rebuttal briefs, must do so within 30 days after the publication of these preliminary results by submitting a written request to the Assistant Secretary for Enforcement and Compliance using ACCESS. Requests should contain the party's name, address, and telephone number, and a list of the issues to be discussed. Issues addressed at the hearing will be limited to those raised in the briefs. If a request for a hearing is made, Commerce will inform parties of the scheduled date for the hearing.¹⁶

¹⁶ See 19 CFR 351.310.

Unless the deadline is extended, Commerce intends to issue the final results of this administrative review, including the results of our analysis of the issues raised by the parties in their comments, no later than 120 days after the date of publication of this notice, pursuant to section 751(a)(3)(A) of the Act and 19 CFR 351.213(h)(1).

Notification to Interested Parties

These preliminary results are issued and published pursuant to sections 751(a) and 777(i) of the Act and 19 CFR 351.221(b)(4) and 351.213(d)(4).

Dated: April 27, 2023.
Lisa W. Wang,
Assistant Secretary for Enforcement and Compliance.

Appendix

List of Topics Discussed in the Preliminary Decision Memorandum

I. Summary

II. Background

III. Scope of the Order

IV. Rescission of Administrative Review, In Part

V. Subsidies Valuation

VI. Benchmarks and Discount Rates

VII. Analysis of Programs

VIII. Recommendation

[FR Doc. 2023-09425 Filed 5-3-23; 8:45 am]

BILLING CODE 3510-DS-P